DEPARTMENT OF LABOR

Employment and Training Administration

20 CFR Part 645

Welfare-to-Work Grants

AGENCY: Employment and Training Administration, Labor.

ACTION: Final rule; technical amendment.

SUMMARY: The Employment and Training Administration (ETA) of the Department of Labor (the Department) is removing the regulations which implement and govern the Welfare-to-Work (WtW) programs conducted at the state and local area levels and provide program requirements applicable to all WtW formula and competitive funds under the Social Security Act (SSA). Congressional authorization for this program has expired, and all remaining grant funding was rescinded by the Department in 2004. Accordingly, these regulations are no longer necessary. This technical amendment is a ministerial action to remove obsolete regulations from the Code of Federal Regulations.

DATES: This final rule is effective October 16, 2020.

FOR FURTHER INFORMATION CONTACT: Heidi M. Casta, Acting Deputy Administrator, Office of Policy Development and Research, U.S. Department of Labor, 200 Constitution Avenue NW, Room N-5641, Washington, DC 20210; telephone (202) 693-3700 (this is not a toll-free number).

Individuals with hearing or speech impairments may access the telephone number above via TTY by calling the toll-free Federal Information Relay Service at 1-800-877-8339.

SUPPLEMENTARY INFORMATION: The Department is removing the regulations at 20 CFR part 645, which implement and govern the WtW programs authorized under Title IV, part A of the SSA, 42 U.S.C. 601 et seq.

On August 5, 1997, the President signed the Balanced Budget Act of 1997 (Pub. L. 105-33). This legislation amended certain provisions of the SSA concerning the Temporary Assistance for Needy Families (TANF) program. The legislation authorized the Secretary of Labor to provide WtW grants to states and local communities to assist hard-to-employ TANF welfare recipients in moving into unsubsidized jobs and economic self-sufficiency. The funds distributed through the WtW grant program were designed to assist states and Private Industry Councils in meeting their welfare reform objectives by providing additional resources targeted to hard-to-employ welfare recipients residing in high poverty areas within the state.

In November 1997, pursuant to 42 U.S.C. 603(a)(5)(C)(ix), the Department issued an interim final rule providing a framework for the administration of the WtW program in coordination with the TANF program administered by the Department of Health and Human Services.¹ Public comments were received in response to the interim final rule, which were taken into consideration in drafting the final rule. The final rule was published in 2001, alongside a second interim final rule that contained additional changes in response to the 1999 amendments to the statute.² The Department solicited and received comments on the second interim final rule.³ These rules were codified at 20 CFR part 645.

¹ See 62 FR 61588 (Nov. 18, 1997).

² See 66 FR 2690 (Jan. 11, 2001).

³ See 66 FR 9763 (Feb. 12, 2001).

In 2004, Congressional authorization for the WtW program expired and all formula grant funds appropriated under the WtW provisions of the SSA that were unexpended by the states were rescinded.⁴ Any remaining active participants in the WtW program were transitioned into similarly-targeted programs under the Workforce Investment Act, which was later replaced by the Workforce Innovation and Opportunity Act.⁵ The Department is therefore undertaking this ministerial action to remove the regulations governing the former WtW program from the Code of Federal Regulations as they are obsolete. This technical amendment to the CFR affects no rights or obligations and poses no costs.

⁴ See Department of Labor Appropriations Act, 2004, Public Law 108-199, 105, 118 Stat. 226, 235 (2004); Training and Employment Guidance Letter No. 19-03 (Feb. 27, 2004).

⁵ See id.; Public Law 113-128, 128 Stat. 1425 (2014).

Procedural and Other Matters

Section 553 of the Administrative Procedure Act, 5 U.S.C. 553(b)(3)(B), provides that when an agency for good cause finds that notice and public procedures are impracticable, unnecessary or contrary to the public interest, the agency may issue a rule without providing notice and an opportunity for public comment. The purpose of this action is to remove regulations implementing the WtW grant provisions of Title IV, Part A of the SSA, which are no longer necessary as all WtW grant funds have been expended or rescinded, all grants have been closed out, and the program is no longer in operation. Accordingly, for good cause, the Department has determined that public notice-and-comment procedures are unnecessary. For the same reasons, the Department finds good cause to forgo delay of the effective date under section 553(d)(3) of the Administrative Procedure Act and to make this final rule effective immediately upon publication.

The Office of Information and Regulatory Affairs at the Office of Management and Budget has determined that this final rule is not a significant regulatory action under Executive Order 12866, and is therefore not subject to Executive Order 13771, entitled Reducing Regulations and Controlling Regulatory Costs. Additionally, no analysis is required under the Regulatory Flexibility Act ⁶ or Sections 202 and 205 of the Unfunded Mandates Reform Act of 1999,⁷ because, for the reasons discussed above, the Department is not required to engage in notice and comment under the Administrative Procedure Act. This final rule does not have significant Federalism implications under Executive Order 13132. The final rule is not subject to the requirements of the Paperwork Reduction Act of 1995 (PRA 95) (44 U.S.C. 3501 et seq.), because it does not contain a collection of information as defined in 44 U.S.C. 3502(3).

⁶ See 5 U.S.C. 601(2) (limiting “rules” under the Regulatory Flexibility Act, to rules for which a general notice of proposed rulemaking is published).

⁷ Public Law 104-4.

The Congressional Review Act, 5 U.S.C. 801 et seq., generally provides that before certain actions may take effect, the agency promulgating the action must submit a report, including a copy of the action, to each House of the Congress and to the Comptroller General of the United States. This final action is administrative and only removes obsolete regulations from the CFR. Accordingly, the Department has determined that good cause exists, and that this technical amendment is not subject to the timing requirements of the Congressional Review Act.

List of Subjects in 20 CFR Part 645

Administrative practice and procedure, Employment, Grant programs-labor.

For the reasons stated in the preamble, under the authority of 42 U.S.C. 603(a)(5)(C)(ix), the Department amends 20 CFR chapter V by removing part 645.

John Pallasch,
Assistant Secretary for Employment and Training, Labor.

[FR Doc. 2020-21308 Filed 10-15-20; 8:45 am]

BILLING CODE 4510-FN-P